DEPARTMENT OF ENERGY

Federal Energy Regulatory Commission

[Docket No. RP00-316-001]

Kinder Morgan Interstate Gas Transmission LLC; Notice of Tariff Filing

August 16, 2000.

Take notice that on August 10, 2000, Kinder Morgan Interstate Gas Transmission LLC (KMIGT) tendered for filing tariff sheets to be effective in Appendix A of its filing. These tariff sheets are being filed to comply with the Commission's Order dated July 26, 2000 in this docket.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21302 Filed 8-21-00; 8:45 am]

BILLING CODE 6717-01-M